DEPARTMENT OF THE TREASURY

Internal Revenue Service

26 CFR Part 1

[TD 9852]

RIN 1545-BL96

Chapter 4 Regulations Relating to Verification and Certification Requirements for Certain Entities and Reporting by Foreign Financial Institutions

Correction

In rule document 2019-05527 appearing on pages 10976-10989 in the issue of March 25, 2019, make the following corrections:

§ 1.1471-4 [Corrected]

1. On page 10981, in the third column, in paragraph (j), in the 6th and 10th lines “March 26, 2019” should read “March 25, 2019”.

§ 1.1471-5 [Corrected]

2. On page 10987, in the first column, in paragraph (m), in the 6th and 11th lines “March 26, 2019” should read “March 25, 2019”.

§ 1.1472-1 [Corrected]

3. On page 10989, in the third column, in paragraph (h), in the 5th and 9th lines “March 26, 2019” should read “March 25, 2019”.

[FR Doc. C1-2019-05527 Filed 4-3-19; 8:45 am]

BILLING CODE 1301-00-D